ENVIRONMENTAL PROTECTION AGENCY

[OPP-2004-0111, FRL-7814-5]

Agency Information Collection Activities; Submission to OMB; Comment Request; EPA ICR No. 0922.07; OMB Control No. 2070-0057; Data Call-Ins for the Special Review and Registration Review Programs

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Data Call-Ins for the Special Review and Registration Review Programs; EPA ICR No. 0922.07; OMB Control No. 2070-0057. The ICR, which is abstracted below, describes the nature of the information collection activity and its expected burden and costs.

DATES: Additional comments may be submitted on or before October 18, 2004.

FOR FURTHER INFORMATION CONTACT: Nathanael Martin, Field and External Affairs Division (7506C), Office of Pesticide Programs, Environmental Protection Agency, 1200 Pennsylvania Ave., NW., Washington, DC 20460; telephone number: (703) 305-6475; fax number: (703) 305-5884; e-mail address: martin.nathanael@epa.gov.

ADDRESSES: Submit your comments, referencing docket ID number OPP-2004-0111, to (1) EPA online using EDOCKET (our preferred method), by e-mail to opp-docket@epa.gov, or by mail to: Public Information and Records Integrity Branch (PIRIB), Office of Pesticide Programs (OPP), Environmental Protection Agency, Mailcode: 7502C, 1200 Pennsylvania Ave., NW., Washington, DC 20460, and (2) OMB at: Office of Information and Regulatory Affairs, Office of Management and Budget (OMB), Attention: Desk Officer for EPA, 725 17th Street, NW., Washington, DC 20503.

SUPPLEMENTARY INFORMATION: EPA has submitted the following ICR to OMB for review and approval according to the procedures prescribed in 5 CFR 1320.12. The Federal Register document, required under 5 CFR 1320.8(d), soliciting comments on this collection of information was published on June 1, 2004 (69 FR 30901). EPA received one comment on this ICR during the 60-day comment period and it has been addressed in the ICR.

EPA has established a public docket for this ICR under Docket ID No. OPP-2004-0111, which is available for public viewing at the Public Information and Records Integrity Branch (PIRIB), Rm. 119, Crystal Mall #2, 1801 Bell St., Arlington, VA. This docket facility is open from 8:30 a.m. to 4 p.m., Monday through Friday, excluding legal holidays. The docket telephone number is (703) 305-5805. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice.Please note, EPA's policy is that public comments, whether submitted electronically or on paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

ICR Title: Data Call-Ins for the Special Review and Registration Review Programs

ICR Status: This is a request for extension of an existing approved collection that is currently scheduled to expire on October 31, 2004. EPA is asking OMB to approve this ICR for three years. Under 5 CFR 1320.12(b)(2), the Agency may continue to conduct or sponsor the collection of information while the submission is pending at OMB.

Abstract: This information collection will enable EPA to collect the necessary data (e.g., various scientific studies related to certain pesticides) to assess whether the continued registration of an existing pesticide causes an unreasonable adverse effect on human health or the environment. This information collection will also enable EPA to collect certain company data about pesticide registrants that may be needed in order to verify eligibility for waivers and exemptions. The special review process is set in motion when EPA has reason to believe that the use of a pesticide may result in unreasonable adverse effects to human health or the environment. The goal of this process is to reduce the risks posed by a pesticide to an acceptable level while taking into consideration the benefits provided by the use of the pesticide. This ICR also includes the information collection related to the Registration Review Program. The Food Quality Protection Act of 1996 (FQPA), which amended the two primary statutes regulating pesticides, i.e., the Federal Food, Drug and Cosmetic Act (FFDCA) and FIFRA, established the Registration Review Program. Under FIFRA section 3(g), EPA must now periodically review all pesticide registrations. In doing so, the Agency is authorized to use FIFRA section 3(c)(2)(B) to require pesticide registrants to generate and submit data to the Agency where such data is needed to assess whether unreasonable risk to human health or the environment.

Burden Statement: The annual “respondent” burden for this ICR is estimated to be 64,699 hours. According to the Paperwork Reduction Act, “burden” means the total time, effort, or financial resources expended by persons to generate, maintain, retain, or disclose or provide information to or for a Federal agency. For this collection, it is the time reading the regulations, planning the necessary data collection activities, conducting tests, analyzing data, generating reports and completing other required paperwork, and storing, filing, and maintaining the data. The agency may not conduct or sponsor, and a person is not required to respond to, a collection of information unless it displays a currently valid OMB control number. The OMB control number for this information collection appears at the beginning and the end of this document. In addition OMB control numbers for EPA's regulations, after initial display in the final rule, are listed in 40 CFR part 9.

The following is a summary of the burden estimates taken from the ICR:

Respondents/affected entities: Pesticide and other agricultural chemical manufacturing (NAICS 325320), e.g., Businesses engaged in the manufacture of pesticides.

Estimated total number of potential respondents: 61.

Frequency of response: On occasion.

Estimated total/average number of responses for each respondent: 1.

Estimated total annual burden hours: 64,699.

Estimated total annual labor costs: $5,851,894.

Changes in the ICR Since the Last Approval: This ICR renewal request will result in a net decrease in the annual respondent burden of 6,433 hours (from 71,132 hours to 64,699 hours) from the previous ICR because the Agency expects to issue fewer special review data-call-ins over the next three years. Although respondent labor rates have increased when compared with the previous ICR, annual cost estimates have decreased from $6,072,472 to $5,851,894, again due to a decrease in the number of special review data call-in notices to be issued.

Dated: September 4, 2004.
Oscar Morales,
Director, Collection Strategies Division.

[FR Doc. 04-20977 Filed 9-16-04; 8:45 am]

BILLING CODE 6560-50-P